DEPARTMENT OF HEALTH AND HUMAN SERVICES

Centers for Disease Control and Prevention

Advisory Council for the Elimination of Tuberculosis (ACET)

In accordance with section 10(a)(2) of the Federal Advisory Committee Act (Pub. L. 92-463), the Centers for Disease Control and Prevention (CDC), announces the following meeting of the aforementioned committee:

Time and Date: 11:00 a.m.-3:30 p.m., March 3, 2015.

Place: This meeting will be accessible by Web conference. Toll-free +1 (877) 951-7311, Participant Code: 6816256.

For Participants: URL: https://www.mymeetings.com/nc/join/, Conference number: PW1126518, Audience passcode: 6816256.

Participants can join the event directly at: https://www.mymeetings.com/nc/join.php?i=PW1126518&p=6816256&t=c.

Status: Open to the public limited only by web conference. Participation by web conference is limited by the number of ports available. The meeting accommodates 100 ports.

Purpose: This council advises and makes recommendations to the Secretary of Health and Human Services, the Assistant Secretary for Health, and the Director, CDC, regarding the elimination of tuberculosis. Specifically, the Council makes recommendations regarding policies, strategies, objectives, and priorities; addresses the development and application of new technologies; and reviews the extent to which progress has been made toward eliminating tuberculosis.

Matters for Discussion: Agenda items include the following topics: (1) Update on Global TB Coordination Activities; (2) Profile of Foreign-Born TB cases; (3) Impact of funding cuts on TB programs in the field; and (4) other tuberculosis-related issues.

Agenda items are subject to change as priorities dictate. Contact Person for More Information: Margie Scott-Cseh, Centers for Disease Control and Prevention, 1600 Clifton Road NE., M/S E-07, Atlanta, Georgia 30333, telephone (404) 639-8317; Email: zkr7@cdc.gov

The Director, Management Analysis and Services Office, has been delegated the authority to sign Federal Register Notices pertaining to announcements of meetings and other committee management activities, for both the Centers for Disease Control and Prevention and the Agency for Toxic Substances and Disease Registry.

Catherine Ramadei,
Acting Director, Management Analysis and Services Office, Centers for Disease Control and Prevention.

[FR Doc. 2015-02887 Filed 2-11-15; 8:45 am]

BILLING CODE 4163-18-P